DEPARTMENT OF THE INTERIOR

Bureau of Land Management

[WY-100-04-1310-DB]

Notice of Meetings of the Pinedale Anticline Working Group Adaptive Management Advisory Committee

AGENCY: Bureau of Land Management, Interior.

ACTION: Notice of public meetings.

SUMMARY: In accordance with the Federal Land Policy and Management Act (1976) and the Federal Advisory Committee Act (1972), the U.S. Department of the Interior, Bureau of Land Management (BLM) Pinedale Anticline Working Group adaptive management advisory committee will meet in Pinedale, WY, on Monday, July 12, 2004, and again on Wednesday, August 11, 2004, for business meetings. The meetings are open to the public.

DATES: The Pinedale Anticline Working Group (PAWG) will meet July 12, 2004, and August 11, 2004. Both meetings will begin at 9 a.m. and continue until finished, as late as 5 p.m.

ADDRESSES: The July 12 and August 11 PAWG meetings will be held in the Lovatt Room of the Sublette County Public Library, 155 So. Tyler Avenue, Pinedale, WY.

FOR FURTHER INFORMATION CONTACT: Carol Kruse, BLM/PAWG Liaison, Bureau of Land Management, Pinedale Field Office, 432 E. Mill St., PO Box 768, Pinedale, WY 82941; (307) 367-5352 or carol_kruse@blm.gov.

SUPPLEMENTARY INFORMATION: The Pinedale Anticline Working Group (PAWG) was authorized and established with release of the Record of Decision (ROD) for the Pinedale Anticline Oil and Gas Exploration and Development Project on July 27, 2000. The PAWG is to advise the BLM on the development and implementation of monitoring plans and adaptive management decisions as development of the Pinedale Anticline Natural Gas Field (PAPA) proceeds, for the life of the field.

After the ROD was issued, Interior determined that a Federal Advisory Committees Act (FACA) charter was required for this group. The charter was signed by Secretary Norton on August 15, 2002. An announcement of committee initiation and call for nominations was published in the Federal Register on February 21, 2003 (68 FR 8522). PAWG members were appointed by Secretary Norton on May 4, 2004.

The first business meeting of the PAWG will begin at 9 a.m. on Monday, July 12, 2004, in the Lovatt Room of the Sublette County Public Library, 155 So. Tyler Ave., Pinedale, WY. Agenda topics will include: Introductions; review of PAWG and Task Group (subcommittee) organizational structure; review of the roles and responsibilities of the PAWG and it's Task Groups; election of chairman; establishment of Task Groups; discussion on staffing those Task Groups; presentation and discussion on the Questar Exploration and Development proposal to drill year-round in crucial winter range/sage-grouse habitat in the Pinedale Anticline natural gas field project area (PAPA); and discussion of a potential PAWG tour of the PAPA. Public comment will be heard in the last 30 minutes of the meeting.

The second business meeting will begin at 9 a.m. on Wednesday, August 11, 2004, in the Lovatt Room of the Sublette County Public Library, 155 So. Tyler Ave., Pinedale, WY. Agenda topics will include: Appointment of Task Group members; initiation of Task Group activities; discussion of and decision on PAWG recommendation to BLM regarding the Questar proposal; discussion of other issues raised for PAWG consideration; setting the next PAWG meeting date and place. Public comment will be heard in the last 30 minutes of the meeting.

Dated: June 4, 2004.
Priscilla E. Mecham,
Field Manager, Pinedale BLM.

[FR Doc. 04-13143 Filed 6-9-04; 8:45 am]

BILLING CODE 4310-22-P